DEPARTMENT OF ENERGY

Federal Energy Regulatory Commission

Combined Notice of Filings #1

Take notice that the Commission received the following exempt wholesale generator filings:

Docket Numbers: EG24-181-000.

Applicants: Aspen Road Solar 1, LLC.

Description: Aspen Road Solar 1, LLC submits Notice of Self-Certification of Exempt Wholesale Generator Status.

Filed Date: 5/16/24.

Accession Number: 20240516-5126.

Comment Date: 5 p.m. ET 6/6/24.

Docket Numbers: EG24-182-000.

Applicants: Egypt Road Solar, LLC.

Description: Egypt Road Solar, LLC submits Notice of Self-Certification of Exempt Wholesale Generator Status.

Filed Date: 5/16/24.

Accession Number: 20240516-5127.

Comment Date: 5 p.m. ET 6/6/24.

Docket Numbers: EG24-183-000.

Applicants: Jones Farm Lane Solar, LLC.

Description: Jones Farm Lane Solar, LLC submits Notice of Self-Certification of Exempt Wholesale Generator Status.

Filed Date: 5/16/24.

Accession Number: 20240516-5128.

Comment Date: 5 p.m. ET 6/6/24.

Take notice that the Commission received the following electric rate filings:

Docket Numbers: ER24-756-001.

Applicants: Avista Corporation.

Description: Compliance filing: Avista FERC Order 2023-A Compliance Filing to be effective 12/31/9998.

Filed Date: 5/16/24.

Accession Number: 20240516-5147.

Comment Date: 5 p.m. ET 6/6/24.

Docket Numbers: ER24-1156-001.

Applicants: Florida Power & Light Company.

Description: Compliance filing: FPL OATT Order No. 2023-A Supplemental Compliance Filing to be effective 4/1/2024.

Filed Date: 5/15/24.

Accession Number: 20240515-5174.

Comment Date: 5 p.m. ET 6/5/24.

Docket Numbers: ER24-1268-001.

Applicants: The Dayton Power and Light Company, PJM Interconnection, L.L.C.

Description: Tariff Amendment: The Dayton Power and Light Company submits tariff filing per 35.17(b): AES Response to Deficiency Letter in ER24-1268 to be effective 4/17/2024.

Filed Date: 5/15/24.

Accession Number: 20240515-5143.

Comment Date: 5 p.m. ET 6/5/24.

Docket Numbers: ER24-1393-001.

Applicants: Public Service Company of New Mexico.

Description: Compliance filing: Amended Compliance Filing to Implement FERC Order No. 2023-A to be effective 12/31/9998.

Filed Date: 5/16/24.

Accession Number: 20240516-5003.

Comment Date: 5 p.m. ET 6/6/24.

Docket Numbers: ER24-1411-001.

Applicants: Alabama Power Company, Georgia Power Company, Mississippi Power Company.

Description: Compliance filing: Alabama Power Company submits tariff filing per 35: Amended Order No. 2023 Compliance Filing to be effective 12/31/9998.

Filed Date: 5/16/24.

Accession Number: 20240516-5075.

Comment Date: 5 p.m. ET 6/6/24.

Docket Numbers: ER24-1544-001.

Applicants: Duke Energy Indiana, LLC.

Description: Tariff Amendment: DEI—Request to Defer to be effective 12/31/9998.

Filed Date: 5/14/24.

Accession Number: 20240514-5195.

Comment Date: 5 p.m. ET 6/4/24.

Docket Numbers: ER24-1554-001.

Applicants: Duke Energy Progress, LLC, Duke Energy Carolinas, LLC.

Description: Compliance filing: Duke Energy Progress, LLC submits tariff filing per 35: DEC-DEP—Attachment K—Second Compliance Filing to be effective 11/1/2025.

Filed Date: 5/15/24.

Accession Number: 20240515-5159.

Comment Date: 5 p.m. ET 6/5/24.

Docket Numbers: ER24-1717-002.

Applicants: PJM Interconnection, L.L.C.

Description: Tariff Amendment: Amendment of ER24-1717-001; Service Agreement No. 4401; AA1-095 re: Metadata to be effective 6/10/2024.

Filed Date: 5/14/24.

Accession Number: 20240514-5196.

Comment Date: 5 p.m. ET 6/4/24.

Docket Numbers: ER24-2013-000.

Applicants: Desert Quartzite, LLC.

Description: Baseline eTariff Filing: 2024-05-14 Initial Market-Based Rate Petition—Desert Quartzite, LLC to be effective 7/14/2024.

Filed Date: 5/14/24.

Accession Number: 20240514-5194.

Comment Date: 5 p.m. ET 6/4/24.

Docket Numbers: ER24-2026-000.

Applicants: Southwest Power Pool, Inc.

Description: Compliance filing: Order Nos. 2023 and 2023-A Compliance Filing to be effective 12/31/9998.

Filed Date: 5/16/24.

Accession Number: 20240516-5049.

Comment Date: 5 p.m. ET 6/6/24.

Docket Numbers: ER24-2027-000.

Applicants: Golden Spread Electric Cooperative, Inc.

Description: Compliance filing: OATT Order No. 2023 Compliance to be effective 5/17/2024.

Filed Date: 5/16/24.

Accession Number: 20240516-5050.

Comment Date: 5 p.m. ET 6/6/24.

Docket Numbers: ER24-2028-000.

Applicants: Ameren Transmission Company of Illinois.

Description: § 205(d) Rate Filing: Filing of a Fiber License Agreement to be effective 5/17/2024.

Filed Date: 5/16/24.

Accession Number: 20240516-5058.

Comment Date: 5 p.m. ET 6/6/24.

Docket Numbers: ER24-2029-000.

Applicants: Dominion Energy South Carolina, Inc.

Description: Compliance filing: Order 2023_2023A Compliance filing to be effective 8/1/2025.

Filed Date: 5/16/24.

Accession Number: 20240516-5062.

Comment Date: 5 p.m. ET 6/6/24.

Docket Numbers: ER24-2030-000.

Applicants: Public Service Company of Colorado.

Description: Compliance filing: 2024-05-16 Order 2023 Compliance Filing—Att N & P to be effective 12/31/9998.

Filed Date: 5/16/24.

Accession Number: 20240516-5067.

Comment Date: 5 p.m. ET 6/6/24.

Docket Numbers: ER24-2031-000.

Applicants: AEP Texas Inc.

Description: § 205(d) Rate Filing: AEPTX-BRP Carina BESS Third Amended Generation Interconnection Agreement to be effective 4/30/2024.

Filed Date: 5/16/24.

Accession Number: 20240516-5068.

Comment Date: 5 p.m. ET 6/6/24.

Docket Numbers: ER24-2032-000.

Applicants: Idaho Power Company.

Description: § 205(d) Rate Filing: Order 2023-A Compliance Filing to be effective 1/1/2024.

Filed Date: 5/14/24.

Accession Number: 20240514-5200.

Comment Date: 5 p.m. ET 6/4/24.

Docket Numbers: ER24-2033-000.

Applicants: GridLiance High Plains LLC.

Description: Compliance filing: GHP Order No. 2023 Compliance Filing to be effective 9/1/2024.

Filed Date: 5/16/24.

Accession Number: 20240516-5072.

Comment Date: 5 p.m. ET 6/6/24.

Docket Numbers: ER24-2034-000.

Applicants: GridLiance Heartland LLC.

Description: Compliance filing: Gridliance Heartland Order No. 2023 Compliance Filing to be effective 9/1/2024.

Filed Date: 5/16/24.

Accession Number: 20240516-5074. Comment Date: 5 p.m. ET 6/6/24.

Docket Numbers: ER24-2035-000.

Applicants: Versant Power.

Description: Compliance filing: Order Nos. 2023 and 2023-A Compliance Filing to be effective 1/1/2025.

Filed Date: 5/16/24.

Accession Number: 20240516-5076. Comment Date: 5 p.m. ET 6/6/24.

Docket Numbers: ER24-2036-000.

Applicants: Lucky Corridor, LLC.

Description: § 205(d) Rate Filing: Lucky Corridor Order No. 2023 Compliance Filing to be effective 12/31/9998.

Filed Date: 5/16/24.

Accession Number: 20240516-5084.

Comment Date: 5 p.m. ET 6/6/24.

Docket Numbers: ER24-2037-000.

Applicants: Tucson Electric Power Company.

Description: Compliance filing: Order Nos. 2023 and 2023-A Compliance Filing to be effective 8/15/2024.

Filed Date: 5/16/24.

Accession Number: 20240516-5106.

Comment Date: 5 p.m. ET 6/6/24.

Docket Numbers: ER24-2038-000.

Applicants: UNS Electric, Inc.

Description: Compliance filing: Order Nos. 2023 and 2023-A Compliance Filing to be effective 8/15/2024.

Filed Date: 5/16/24.

Accession Number: 20240516-5107.

Comment Date: 5 p.m. ET 6/6/24.

Docket Numbers: ER24-2039-000.

Applicants: Deseret Generation & Transmission Co-operative, Inc.

Description: Compliance filing: OATT Order No. 2023 Compliance to be effective 5/17/2024.

Filed Date: 5/16/24.

Accession Number: 20240516-5110.

Comment Date: 5 p.m. ET 6/6/24.

Docket Numbers: ER24-2040-000.

Applicants: Tri-State Generation and Transmission Association, Inc.

Description: Compliance filing: Compliance Filing Order No. 2023 Generator Interconnection Procedures to be effective 7/16/2024.

Filed Date: 5/16/24.

Accession Number: 20240516-5125.

Comment Date: 5 p.m. ET 6/6/24.

Docket Numbers: ER24-2041-000.

Applicants: PJM Interconnection, L.L.C.

Description: § 205(d) Rate Filing: Original WMPA, Service Agreement No. 7234; AF1-112 to be effective 4/16/2024.

Filed Date: 5/16/24.

Accession Number: 20240516-5129.

Comment Date: 5 p.m. ET 6/6/24.

Docket Numbers: ER24-2042-000.

Applicants: California Independent System Operator Corporation.

Description: Compliance filing: 2024-05-16 Amendment to Comply with Order No. 2023—LGIA and SGIA Improvements to be effective 5/17/2024.

Filed Date: 5/16/24.

Accession Number: 20240516-5132.

Comment Date: 5 p.m. ET 6/6/24.

Docket Numbers: ER24-2043-000.

Applicants: Basin Electric Power Cooperative.

Description: Compliance filing: Basin Electric, Submission of Order No. 2023 Compliance Filing to be effective 7/15/2024.

Filed Date: 5/16/24.

Accession Number: 20240516-5139.

Comment Date: 5 p.m. ET 6/6/24.

Docket Numbers: ER24-2044-000.

Applicants: NorthWestern Corporation.

Description: § 205(d) Rate Filing: SA#767 Tenth Revised—Basin NITSA to be effective 5/17/2024.

Filed Date: 5/16/24.

Accession Number: 20240516-5141.

Comment Date: 5 p.m. ET 6/6/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 16, 2024.
Debbie-Anne A. Reese,
Acting Secretary.

[FR Doc. 2024-11240 Filed 5-21-24; 8:45 am]

BILLING CODE 6717-01-P